INTERNATIONAL TRADE COMMISSION

[Investigation No. 337-TA-914]

Investigations: Terminations, Modifications and Rulings: Certain Sulfentrazone, Sulfentrazone Compositions, and Processes for Making Sulfentrazone

AGENCY: U.S. International Trade Commission.

ACTION: Notice.

SUMMARY: Notice is hereby given that the presiding administrative law judge (“ALJ”) has designated temporary relief proceedings in the above-captioned investigation as “more complicated.”

FOR FURTHER INFORMATION CONTACT: Clark S. Cheney, Office of the General Counsel, U.S. International Trade Commission, 500 E Street SW., Washington, DC, 20436, telephone (202) 205-2661. Copies of all non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov/. Hearing-impaired persons are advised that information on the matter can be obtained by contacting the Commission's TDD terminal on 202-205-1810.

SUPPLEMENTARY INFORMATION: On March 5, 2014, FMC Corporation of Philadelphia, Pennsylvania (“FMC”) filed a complaint with the Commission alleging violations of section 337 of the Tariff Act of 1930, as amended (19 U.S.C. § 1337), based upon the importation into the United States, the sale for importation, and the sale within the United States after importation of certain sulfentrazone, sulfentrazone compositions, and processes for making sulfentrazone, by reason of infringement of certain claims of U.S. Patent No. 7,169,952 (“the '952 patent”). The complaint named Beijing Nutrichem Science and Technology Stock Co., Ltd., of Beijing, China; Jiangxi Heyi Chemicals Co., Ltd. of Jiujiang City, China; Summit Agro USA, LLC, of Cary, North Carolina; and Summit Agro North America Holding Corporation, of New York, New York, as proposed respondents. Simultaneously with its complaint, FMC filed a motion for temporary relief requesting that the Commission issue a temporary limited exclusion order and temporary cease and desist order prohibiting, during the pendency of the Commission's investigation, the importation into and the sale within the United States after importation of certain allegedly infringing articles. Based on the complaint, the Commission instituted an investigation on April 14, 2014. 79 FR 20907-908 (April 14, 2014).

On April 22, 2014, the ALJ issued Order No. 6, designating the temporary relief proceeding as “more complicated” pursuant to Commission Rule 210.60, on the basis of the complexity of the issues raised in FMC's motion for temporary relief.

The authority for the Commission's determination is contained in section 337 of the Tariff Act of 1930, as amended (19 U.S.C. 1337), and in Part 210 of the Commission's Rules of Practice and Procedure (19 CFR part 210).

By order of the Commission.
Dated: April 25, 2014.
Lisa R. Barton,
Secretary to the Commission.

[FR Doc. 2014-09864 Filed 4-30-14; 8:45 am]

BILLING CODE 7020-02-P